ARCHITECTURAL AND TRANSPORTATION BARRIERS COMPLIANCE BOARD

[Docket No. ATBCB-2012-0003]

RIN 3014-AA40

Proposed Information Collection; Comment Request; Wheelchair Seat Height Survey

AGENCY: Architectural and Transportation Barriers Compliance Board.

ACTION: Notice and request for comments.

SUMMARY: The Architectural and Transportation Barriers Compliance Board (Access Board or Board), as part of its continuing efforts to reduce public burden and maximize the utility of government information, invites the public and other Federal agencies to comment on a proposed, new information collection, as required by the Paperwork Reduction Act of 1995 (PRA). With this notice, the Access Board solicits comments on its proposal to survey adult wheelchair users to gather data on their wheelchair seat heights and related demographics. Following review of comments received in response to this 60-day notice, the Access Board intends to submit a request to the Office of Management and Budget for approval of this information collection.

DATES: Submit Comments by August 27, 2018.

ADDRESSES: You may submit comments by any one of the following methods:

• Federal eRulemaking Portal: http://www.regulations.gov. Follow the instructions for submitting comments.

• Email: marshall@access-board.gov. Include docket number ATBCB-2012-0003 in the subject line of the message.

• Fax: 202-272-0081.

• Mail or Hand Deliver/Courier: Wendy Marshall, Office of General Counsel, U.S. Access Board, 1331 F Street NW, Suite 1000, Washington, DC 20004-1111.

Instructions: All submissions received must include the agency name and docket number or Regulatory Information Number (RIN) for this notice. All comments received will be posted without change to http://www.regulations.gov, including any personal information provided.

Docket: To review submitted comments or other materials in the docket, go to http://www.regulations.gov, insert docket number “ATBCB-2012-0003” into the “Search” box, and follow the prompts.

FOR FURTHER INFORMATION CONTACT: Wendy Marshall, Attorney Advisor, U.S. Access Board, 1331 F Street NW, Suite 1000, Washington, DC 20004-1111. Telephone: (202) 272-0043; Email address: marshall@access-board.gov.

SUPPLEMENTARY INFORMATION: Under the PRA and its implementing regulations, Federal agencies must obtain approval from the Office of Management and Budget (OMB) for each “collection of information” they conduct or sponsor. See 44 U.S.C. 3501-3520; 5 CFR part 1320. “Collection of Information,” within the meaning of the PRA, includes agency-sponsored surveys that pose identical questions to ten or more persons, regardless of whether responses are mandatory or voluntary. See 44 U.S.C. 3502(3); see also 5 CFR 1320.3(c). Before seeking clearance from OMB, agencies are generally required to, among other things, publish a 60-day notice in the Federal Register concerning any proposed information collection and provide an opportunity for comment. See 44 U.S.C. 3506(c)(2)(A); 5 CFR 1320.8(d)(1). Accordingly, the Access Board is publishing notice of the proposed PRA-covered information collection discussed below.

A. Background: Access Board Final Rule Establishing Accessibility Standards for Medical Diagnostic Equipment

In January 2017, the Access Board issued a final rule that established accessibility standards for medical diagnostic equipment (MDE) used by health care providers—such as, examination tables, examination chairs, weight scales, mammography equipment, and other imaging equipment—to ensure that such equipment is accessible to, and usable by, persons with disabilities. 82 FR 2810. See Final Rule—Standards for Accessible Medical Diagnostic Equipment, 82 FR 2810 (Jan. 9, 2017) (codified at 36 CFR part 1195) (hereafter, “MDE Standards”).

Among other things, the MDE Standards establish accessibility criteria relating to the height and adjustability of transfer surfaces on medical diagnostic equipment. Diagnostic equipment used by patients in supine, prone, side-lying or seated positions generally must have height-adjustable transfer surfaces with at least six specified positions: A low transfer height position (at 17-19 inches), A high transfer height position (at 25 inches), and four intermediate positions (separated by at least 1 inch). See 36 CFR 1195.1, Appendix, M301.2, M302.1. Height adjustability is critical for diagnostic equipment because research studies have shown that level (or near-level) transfer—that is, transfer to/from a wheeled mobility device to a surface that is at or near the same level vertically as the seat/seat cushion of that device—are easiest and require less exertion compared with “uphill” or “downhill” transfers. Specification of a height-adjustable range for transfer surfaces in the MDE Standards thus facilitates independent and semi-independent transfer to and from medical diagnostic equipment by patients with disabilities, enhances patient safety, and reduces the risk of injury for medical staff and caregivers.

Notably, as stated in the preamble to the final rule, the 17-to-19-inch height range for the low transfer height position is intended to be an interim standard only. See Final Rule, 82 FR at 2816 & 2831. The Access Board established an interim height-range specification for the low transfer position—as compared to a height-specific standard such as that specified for the high transfer height position—due to divergent views expressed by commenters (including disability advocates, academics, medical equipment manufacturers) concerning the appropriate minimum height for the low transfer position for medical diagnostic equipment. Id. at 2814-16 & 2831. Several academics and disability advocates opined that a 17-inch low height would provide the greatest number of individuals the opportunity to transfer independently. Id. at 2814-15. Manufacturers of medical diagnostic equipment, on the other hand, expressed a strong preference for a 19-inch low height because this transfer height was viewed as cost effective and consistent with the Board's other existing accessibility guidelines. Id. The advisory committee empaneled by the Access Board to provide recommendations for final MDE Standards also failed to reach consensus on a recommendation for a specific low transfer height. Id. at 2815-16.

Therefore, in the final rule, the Access Board declined to specify a single minimum-low-height requirement in the MDE Standards, explaining that “there is insufficient data on the extent to which and how many individuals would benefit from a transfer height lower than 19 inches.” Id. at 2816. Consequently, the MDE Standards specify a 17-to-19-inch height range as a “temporary solution” for the low height transfer position, with this height-range specification “sunsetting” five years after publication of the final rule (i.e., January 2022). Id. at 2816 & 2831. We also noted, at that time, our intent to use this intervening period to commission research studies or otherwise garner additional information aimed at better elucidating the number of wheelchair users for whom a transfer surface positioned at a height less than 19 inches would likely provide improved access relative to higher transfer surfaces. Id. Informed by this additional information, the Access Board intends to initiate rulemaking—before the end of the sunset period—to revise the existing provisions in the MDE Standards that specify minimum height ranges for the low transfer position on medical diagnostic equipment. Id.

B. Wheelchair Seat Height Survey

The Access Board is authorized under section 510 of the Rehabilitation Act to develop (and periodically revise, as needed) minimum technical criteria for accessible medical diagnostic equipment used in healthcare settings. See 29 U.S.C. 794f. More generally, section 502 of the Rehabilitation Act also tasks the agency with promoting accessibility throughout society, as well as investigating and examining alternative approaches to various types of barriers confronting Americans with disabilities. Id. §§ 792(b)(4) & (b)(5).

In keeping with its statutory responsibilities under the Rehabilitation Act, the Access Board intends to conduct a national survey of adult wheelchair users to gather data on the seat height of their respective wheelchairs, as well as related demographic information. Data from this survey will be used to help inform the Board's subsequent rulemaking to update the MDE Standards through establishment of a minimum low transfer height position for medical diagnostic equipment. Additionally, the data and other information garnered from this survey will give the agency a better understanding of the adult, wheelchair-using population in the United States, and, thereby, aid our efforts to promote accessibility throughout American society and provide leadership in accessible design. To our knowledge, no published research or statistical compilations exist that examine adult wheelchair users' respective seat heights on a nationally-representative basis. The Access Board's wheelchair seat height survey aims to address this knowledge and statistical gap.

The Access Board has contracted with the Center for Inclusive Design and Environmental Access (IDeA Center) at the State University of New York at Buffalo to administer this wheelchair seat height survey and analyze the resulting data. The survey instrument is designed to capture the compressed seat height of each respondent's wheelchair, as well as basic demographic information about each respondent (e.g., age, gender, geographic location, wheelchair type, nature of disability). The IDeA Center will use the results from this survey to, among other things, complete a cross-sectional study designed to estimate the prevalence of wheelchair users in the United States with seat heights below 19 inches.

The survey instrument will be distributed primarily via electronic mail, with an embedded link to a web-based survey. (Email and/or regular mail will be used to follow-up with individuals who have not completed the survey.) Targeted field studies may also be employed, as needed, to supplement the pool of survey respondents. Electronic invitations to participate in the survey will be sent to approximately 20,000 self-identified wheelchair users around the country using email addresses from a commercial database. Participation in the survey will be completely voluntary, and individuals may complete the survey at their own convenience. All survey responses will be anonymous.

C. Burden Estimates

The Access Board estimates that it will take respondents approximately 15 minutes to complete the brief, one-time survey instrument. This estimate includes the needed for reviewing survey instructions, locating a measuring device and helper/assistant, measuring seat height, and completing the survey instrument. We project that about 2,000 individuals will submit responses to this survey. Total estimated annual burden hours for this survey is, therefore, 500 hours (.25 hours × 2,000).

D. Request for Comments

The Access Board seeks comment on any aspect of its proposed wheelchair seat height survey, including: (a) The necessity of this survey to the Access Board's performance; (b) the accuracy of our burden estimates; (c) methods of minimizing this burden without reducing the quality of the collected data; and (d) suggestions to enhance the quality, utility, or clarity of the survey instrument. All relevant comments submitted to the Access Board will be summarized and included in our request for OMB approval of this information collection, as required under the PRA.

David M. Capozzi,
Executive Director.

[FR Doc. 2018-13625 Filed 6-25-18; 8:45 am]

BILLING CODE 8150-01-P